FEDERAL ELECTION COMMISSION

11 CFR Part 106

[Notice 2002-1]

Interpretation of Allocation of Candidate Travel Expenses

AGENCY: Federal Election Commission.

ACTION: Interpretation.

SUMMARY: This notice expresses the view of the Commission that the travel allocation and reporting requirements of 11 CFR 106.3(b) are not applicable to the extent that a candidate pays for certain travel expenses using funds authorized and appropriated by the Federal Government.

DATES: February 6, 2002.

FOR FURTHER INFORMATION CONTACT: Tina H. VanBrakle, Director, Congressional Affairs 999 E Street, NW., Washington, DC 20463, (202) 694-1006 or (800) 424-9530.

SUPPLEMENTARY INFORMATION: Contributions and expenditures made for the purpose of influencing Federal elections are subject to various prohibitions and limitations under the Federal Election Campaign Act, 2 U.S.C. 431 et seq., as amended [“FECA” or “the Act”]. These prohibitions and limitations apply to a contribution or expenditure by a “person,” as defined by 2 U.S.C. 431(11) and 11 CFR 100.10.¹ The statutory definition of the term “person” expressly excludes the Federal Government and any authority thereof.²

¹ The terms “contribution” and “expenditure” are likewise defined at 2 U.S.C. 431(8)(A) and 11 CFR 100.7, and 2 U.S.C. 431(9)(A) and 11 CFR 100.8, respectively.

² 2 U.S.C. 431(11) provides: “The term ‘person’ includes an individual, partnership, committee, association, corporation, labor organization, or any other organization or group of persons, but such term does not include the Federal Government or any authority of the Federal Government.”

Commission regulations at 11 CFR 106.3 require candidates for Federal office, other than Presidential and Vice-Presidential candidates who receive federal funds pursuant to 11 CFR part 9005 or 9036, to report expenditures for campaign-related travel. Specifically, section 106.3(b) states that “(1) Travel expenses paid for by a candidate from personal funds, or from a source other than a political committee, shall constitute reportable expenditures if the travel is campaign-related. (2) Where a candidate's trip involves both campaign-related and non-campaign-related stops, the expenditures allocable for campaign purposes are reportable and are calculated on the actual cost-per-mile of the means of transportation actually used, starting at the point of origin of the trip, via every campaign -related stop and ending at the point of origin. (3) Where a candidate conducts any campaign-related activity in a stop, the stop is a campaign-related stop and travel expenditures made are reportable. Campaign-related activity shall not include any incidental contacts.”

Questions have arisen as to whether the allocation and reporting requirements in 11 CFR 106.3(b) are applicable to travel expenses paid for with funds authorized and appropriated by the Federal Government. Thus, the Commission is announcing its interpretation of the scope of 11 CFR 106.3(b) in that circumstance.

Because 2 U.S.C. 431(11) specifically excludes the Federal Government from its definition of a “person,” the Commission acknowledges that a candidate's travel expenses that are paid for using funds authorized and appropriated by the Federal Government are not paid for by a “person” for the purposes of the Act. Therefore, the Commission believes that the allocation and reporting requirements of 11 CFR 106.3(b) are not applicable to the extent that a candidate pays for travel expenses using funds authorized and appropriated by the Federal Government. The Commission notes that this interpretation of 11 CFR 106.3(b) is in harmony with 11 CFR 106.3(d), which states that a candidate need not report “travel between Washington, DC and the state or district in which he or she is a candidate * * * unless the costs are paid by a candidate's authorized committee(s), or by any other political committee(s).”

Please note that this announcement represents the Commission's interpretation of an existing regulation and is not intended to create or remove any rights or duties, nor is it intended to affect any other aspect of 11 CFR 106.3, the Act, or the Commission's regulations. Furthermore, this interpretation does not apply to presidential or vice presidential campaigns that are covered by the Presidential Election Campaign Fund Act, 26 U.S.C. 9001 et seq. (general elections) or the Presidential Primary Matching Payment Account Act, 26 U.S.C. 9031 et seq.³ Finally, the Commission notes that the use of Federal funds is governed by general appropriations law and is subject to Congressional oversight.⁴

³ The Commission's regulations governing travel by presidential and vice presidential candidates who receive federal funds are found at 11 CFR 9034.7 and 9004.7, respectively. These regulations differ from 11 CFR 106.3 in several ways. See, for example, 11 CFR 9004.7(b)(5) and 11 CFR 9034.7(b)(5), which address reimbursement requirements for use of a government airplane to travel to or from a campaign-related stop.

⁴ Both the Senate and the House of Representatives have provided specific guidance to their members regarding mixed-purpose travel. See page 118 of the Senate Ethics Manual (September 2000) and page 95 of the Rules of the House of Representatives on Gifts and Travel (April 2000).

Dated: February 1, 2002.
David M. Mason,
Chairman, Federal Election Commission.

[FR Doc. 02-2858 Filed 2-5-02; 8:45 am]

BILLING CODE 6715-01-P